DEPARTMENT OF HOMELAND SECURITY

Name Change From the Bureau of Immigration and Customs Enforcement to U.S. Immigration and Customs Enforcement, and the Bureau of Customs and Border Protection to U.S. Customs and Border Protection

AGENCY: Office of the Secretary, DHS.

ACTION: Notice.

SUMMARY: This Notice informs the public that the Department of Homeland Security (DHS) has changed the name of the Bureau of Immigration and Customs Enforcement to U.S. Immigration and Customs Enforcement (ICE), and the name of the Bureau of Customs and Border Protection to U.S. Customs and Border Protection (CBP).

EFFECTIVE DATES: This Notice is effective March 31, 2007.

FOR FURTHER INFORMATION CONTACT: For CBP: Harold M. Singer, Director for the Regulations and Disclosure Law Division, Office of International Trade (202) 572-8700; for ICE:

SUPPLEMENTARY INFORMATION: The Department of Homeland Security (DHS) was established on January 24, 2003, pursuant to the Homeland Security Act of 2002, Public Law 107-296 (HSA). DHS is the result of the reorganization of 22 federal agencies, including the former Immigration and Naturalization Service (INS) from the Department of Justice and the U.S. Customs Service (Customs Service) from the Department of the Treasury. Pursuant to sections 442 and 542 of the HSA, INS and the Customs Service were transferred to DHS effective March 1, 2003, and reorganized to become the U.S. Citizenship and Immigration Services (USCIS), the Bureau of Immigration and Customs Enforcement (ICE), and the Bureau of Customs and Border Protection (CBP).

DHS has decided to change the name of these components from the Bureau of Immigration and Customs Enforcement to U.S. Immigration and Customs Enforcement (ICE), and the Bureau of Customs and Border Protection to U.S. Customs and Border Protection (CBP). Pursuant to section 872(a)(2) of the HSA (6 U.S.C. 452(a)(2)), DHS is required to provide notice of the name change to Congress no later than 60 days before the change will be effective. DHS notified Congress on January 18, 2007.

This Notice informs the public that all official documents and future regulatory actions involving the Bureau of Immigration and Customs Enforcement now will identify U.S. Immigration and Customs Enforcement (ICE) as the applicable DHS component, and all references to the Bureau of Customs and Border Protection in existing documents and actions henceforth shall be construed as references to U.S. Customs and Border Protection (CBP).

Dated: April 17, 2007.
Mary Kate Whalen,
Deputy Associate General Counsel for Regulatory Affairs, Office of the General Counsel.

[FR Doc. E7-7659 Filed 4-20-07; 8:45 am]

BILLING CODE 4410-10-P